DEPARTMENT OF TRANSPORTATION

Federal Aviation Administration

14 CFR Part 39

[Docket No. FAA-2020-1078; Project Identifier AD-2020-00716-A]

RIN 2120-AA64

Airworthiness Directives; Textron Aviation Inc. (Type Certificate Previously Held by Cessna Aircraft Company) Airplanes

AGENCY: Federal Aviation Administration (FAA), DOT.

ACTION: Notice of proposed rulemaking (NPRM).

SUMMARY: The FAA proposes to adopt a new airworthiness directive (AD) for all Textron Aviation Inc. (Textron) (Type Certificate previously held by Cessna Aircraft Company) Models 210N, 210R, P210N, P210R, T210N, T210R, 177, 177A, 177B, 177RG, and F177RG airplanes. This proposed AD was prompted by the in-flight break-up of a Model T210M airplane in Australia, due to fatigue cracking that initiated at a corrosion pit, and subsequent corrosion reports on other Model 210-series and Model 177-series airplanes. This proposed AD would require visual and eddy current inspections of the carry-thru spar lower cap, corrective action if necessary, application of a protective coating and corrosion inhibiting compound (CIC), and reporting the inspection results to the FAA. The FAA is proposing this AD to address the unsafe condition on these products.

DATES: The FAA must receive comments on this proposed AD by June 25, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Textron Aviation Inc., One Cessna Boulevard, Wichita, KS 67215; phone: (316) 517-6061; email: structures@txtav.com; website: https://support.cessna.com. You may view this referenced service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2020-1078; or in person at Docket Operations between 9 a.m. and 5 p.m., Monday through Friday, except Federal holidays. The AD docket contains this NPRM, any comments received, and other information. The street address for Docket Operations is listed above.

FOR FURTHER INFORMATION CONTACT: Bobbie Kroetch, Aviation Safety Engineer, Wichita ACO Branch, FAA, 1801 Airport Rd, Wichita, KS 67209; phone: (316) 946-4155; fax: (316) 946-4107; email: bobbie.kroetch@faa.gov or Wichita-COS@faa.gov.

SUPPLEMENTARY INFORMATION:

Comments Invited

The FAA invites you to send any written relevant data, views, or arguments about this proposal. Send your comments to an address listed under ADDRESSES. Include Docket No. FAA-2020-1078; Project Identifier AD-2020-00716-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Bobbie Kroetch, Aviation Safety Engineer, Wichita ACO Branch, FAA, 1801 Airport Rd, Wichita, KS 67209. Any commentary that the FAA receives which is not specifically designated as CBI will be placed in the public docket for this rulemaking.

Background

The FAA received a report that, on May 26, 2019, a Textron Model T210M airplane experienced an in-flight break-up while performing low-altitude aerial survey operations in Australia. The carry-thru spar failed and resulted in wing separation and loss of control of the airplane. A visual examination of the fracture surface identified fatigue cracking that initiated at a corrosion pit. The FAA issued an airworthiness concern sheet (ACS) on June 27, 2019, advising owners and operators of the accident and requesting relevant information about the fleet.

Following the ACS, the FAA received reports of widespread and severe corrosion of the carry-thru spar. Earlier Models 210G, T210G, 210H, T210H, 210J, T210J, 210K, T210K, 210L, T210L, 210M, and T210M airplanes experienced the most widespread and severe corrosion, and the FAA issued AD 2020-03-16 (85 FR 10043, February 21, 2020) (AD 2020-03-16) as a final rule; request for comments to immediately address the unsafe condition on those airplanes.

The FAA also received reports of corrosion on later Models 210N, P210N, T210N, 210R, P210R, and T210R airplanes and Model 177-series airplanes. On Models 210N, P210N, T210N, 210R, P210R, and T210R airplanes, the upper surface of the carry-thru spar is covered by fuselage skin and is not exposed to the environment. This removes the leak paths at the skin splices common to the earlier Model 210 airplanes and reduces the potential for moisture intrusion. Additionally, the later Model 210 airplanes were manufactured with zinc chromate primer applied to all carry-thru spars. However, the later Model 210 airplanes were also delivered with foam installed along the carry-thru spar lower cap. The foam traps moisture against the lower surface of the carry-thru spar cap, which can aid in the development of corrosion. The Model 177-series airplanes share a similar carry-thru spar design with the earlier Model 210-series airplanes: The upper surface of the carry-thru spars are exposed, and the spars may not have been delivered with zinc chromate primer applied. Although Model 177-series airplanes were not delivered with foam padding installed on the lower surface of the carry-thru spar, corrosion has been reported on the carry-thru spar lower cap. Corrosion of the carry-thru spar lower cap can lead to fatigue cracking or reduced structural strength of the carry-thru spar, which, if not addressed, could result in wing separation and loss of control of the airplane.

FAA's Determination

The FAA is issuing this NPRM after determining that the unsafe condition described previously is likely to exist or develop on other products of the same type design.

Related Service Information Under 1 CFR Part 51

The FAA reviewed the following service documents proposed for compliance with this NPRM:

• Textron Aviation Mandatory Single Engine Service Letter, SEL-57-08, Revision 2, dated August, 3, 2020 (SEL-57-08R2); and

• Textron Aviation Mandatory Single Engine Service Letter, SEL-57-09, Revision 1, dated August, 3, 2020 (SEL-57-09R1).

For the applicable airplanes specified, these service letters contain instructions for visually inspecting the carry-thru spar for corrosion, damage, and cracks and for completing an eddy current inspection. This service information also specifies applying protective coating and CIC.

This service information is reasonably available because the interested parties have access to it through their normal course of business or by the means identified in the ADDRESSES section of this NPRM.

Other Related Service Information

The FAA reviewed the following service letters related to this NPRM, which, for the applicable airplanes specified, contain instructions for visually inspecting the carry-thru spar for corrosion and doing an eddy current inspection of the carry-thru spar regardless of whether corrosion was found and removed. This service information also contains instructions for applying CIC, but does not specify applying protective coating.

• Textron Aviation Mandatory Single Engine Service Letter, SEL-57-06, dated June, 24, 2019 (SEL-57-06);

• Textron Aviation Mandatory Single Engine Service Letter, SEL-57-06, Revision 1, dated November 19, 2019;

• Textron Aviation Mandatory Single Engine Service Letter, SEL-57-07, dated June 24, 2019 (SEL-57-07); and

• Textron Aviation Mandatory Single Engine Service Letter, SEL-57-07, Revision 1, dated November 19, 2019.

The FAA also reviewed the service letters listed below related to this NPRM, which, for the applicable airplanes specified, contain the same instructions and repair criteria as SEL-57-08R2 and SEL-57-09R1.

• Textron Aviation Mandatory Single Engine Service Letter, SEL-57-08, dated November 1, 2019;

• Textron Aviation Mandatory Single Engine Service Letter, SEL-57-08, Revision 1, dated November 19, 2019; and

• Textron Aviation Mandatory Single Engine Service Letter, SEL-57-09, dated November 19, 2019.

Proposed AD Requirements in This NPRM

This proposed AD would require accomplishing the actions specified in SEL-57-08R2 and SEL-57-09R1, except as discussed under Differences Between this Proposed AD and the Service Information. This proposed AD also requires reporting the inspection results to the FAA by email at Wichita-COS@faa.gov.

Differences Between This Proposed AD and the Service Information

• Although Textron SEL-57-08R2 also applies to Models 210G, T210G, 210H, T210H, 210J, T210J, 210K, T210K, 210L, T210L, 210M, and T210M airplanes, this proposed AD would not. The FAA issued AD 2020-03-16 to address the immediate safety of flight for those airplanes.

• Textron SEL-57-08R2 and Textron SEL-57-09R1 specify inspecting all interior surfaces of the carry-thru spar; additionally, Textron SEL-57-09R1 specifies inspecting the lower surface of the outboard spar to wing attach lugs. This proposed AD would only require inspecting the carry-thru spar lower cap, including the lower surface, edge, and upper surface of the lower cap. While the web, upper cap, and lugs of the carry-thru spar may be susceptible to corrosion, evidence does not support including inspection of these areas as part of this proposed AD. The FAA will continue to monitor reports of corrosion on all areas of the carry-thru spar for potential future action.

• Textron SEL-57-08R2 and Textron SEL-57-09R1 do not require an eddy current inspection on the carry-thru spar unless the amount of material removed in the blended area exceeds 0.010 inch deep but is within limits. This proposed AD would require an eddy current inspection of all locations on the carry-thru spar where corrosion was removed. The fatigue crack on the Model T210M airplane that suffered the fatal in-flight break-up initiated from a corrosion pit approximately 0.011 inch deep in the lower cap kick area. The visual and less restrictive eddy current inspection requirements specified in SEL-57-08R2 and SEL-57-09R1 could potentially miss similar fatigue cracks on airplanes currently operating in the field.

• Textron SEL-57-08R2 and Textron SEL-57-09R1 only require eddy current inspection of the lower cap kick of the carry-thru spar if corrosion is identified on the carry-thru spar cap. This proposed AD would require a one-time eddy current inspection of the lower cap kick area of all affected airplanes, regardless of the results of the visual inspection. The fatigue crack on the Model T210M airplane that suffered the fatal in-flight break-up initiated in the lower cap kick area. Cracks and corrosion damage may be difficult to identify through visual inspection alone. The FAA will use the results of the one-time eddy current inspection of the lower cap kick area, in part, to determine the necessity of future rulemaking action.

• Textron SEL-57-08R2 and Textron SEL-57-09R1 specify contacting Textron for evaluation and disposition of certain damage. Instead, this proposed AD would require removing the carry-thru spar from service or repairing it (if possible) in accordance with the AMOC procedures identified in paragraph (o) of this proposed AD. Operators should work with Textron to develop a repair in support of an AMOC request.

• Textron SEL-57-08 R2 and Textron SEL-57-09R1 provide instruction allowing airplanes that have complied with SEL-57-06 or SEL-57-07 to complete the application of the protective coating and CIC within 200 flight hours or at the next annual inspection, whichever occurs first. This proposed AD would permit those airplanes that have complied with the visual and eddy current inspections in SEL-57-06 or SEL-57-07, as required by paragraphs (g) and (h) of this proposed AD, to complete the application of the protective coating and CIC within 24 months from the date of the visual and eddy current inspections or within 12 months after the effective date of this AD, whichever occurs first.

Interim Action

The FAA considers this proposed AD an interim action. This proposed AD would require a one-time visual inspection of specified areas on the carry-thru spar lower cap and an eddy current inspection of the lower cap kick area and any locations where corrosion was removed. This proposed AD would also require reporting the inspection results to the FAA. The FAA will analyze the inspection results received to determine further rulemaking action.

Costs of Compliance

The FAA estimates that this AD, if adopted as proposed, would affect 3,421 airplanes of U.S. registry.

The FAA estimates the following costs to comply with this proposed AD:

Estimated Costs
Action | Labor cost | Parts cost | Cost per product | Cost on U.S. operators
Inspections (includes part removal for access, removal of foam, if required, visual inspection, eddy current inspection of the cap kick area, and reassembly) | 12 work-hours × $85 per hour = $1,020 | Not applicable | $1,020 | $3,489,420
Spar treatment (application of primer and corrosion inhibitor) * | 3.5 work-hours × $85 per hour = $297.50 | $340 | 637.50 | 2,180,887.50
Report of inspection results | 2 work-hours × $85 per hour = $170 | Not applicable | 170 | 581,570

* Model 210-series airplanes may only require application of corrosion inhibitor, depending on the condition of the zinc chromate primer. Model 177-series airplanes may or may not require application of the primer, depending on the production year and the quality of any existing zinc chromate primer.

The FAA estimates the following costs to do any necessary repairs or replacements that would be required based on the results of the proposed inspection. The agency has no way of determining the number of aircraft that might need these actions:

On-Condition Costs
Action | Labor cost | Parts cost | Cost per product
Corrosion removal | 2 work-hours × $85 per hour = $170 | Not applicable | $170
On-condition eddy current inspection | 1 work-hour × $85 per hour = $85 | Not applicable | 85
Spar replacement, Model 210/T210-series airplanes | 160 work-hours × $85 per hour = $13,600 | $30,000 | 43,600
Spar replacement, Model P210-series airplanes | 170 work-hours × $85 per hour = $14,450 | $30,000 | 44,450
Spar replacement, Model 177-series airplanes | 120 work-hours × $85 per hour = $10,200 | $30,000 | 40,200

The amount of work-hours necessary to complete the eddy current inspection and corrosion removal will depend on the extent of the corrosion on the spar. The FAA has no way of estimating the work-hours that may be required for those procedures. The FAA's cost estimate assumes a minimum of one hour for the eddy current inspection and two hours for the corrosion removal. If the operator needs an alternative method of compliance for repair, the FAA has no way of estimating the extent of damage or follow-on eddy current inspection that may be required. The FAA has no way of estimating the potential cost of those actions.

Replacement spars are not currently available from Textron. Textron no longer produces the current spar design, and they are working to develop a new spar design. The FAA does not have data to determine the availability of replacement spars from other sources.

Paperwork Reduction Act

A federal agency may not conduct or sponsor, and a person is not required to respond to, nor shall a person be subject to penalty for failure to comply with a collection of information subject to the requirements of the Paperwork Reduction Act unless that collection of information displays a current valid OMB Control Number. The OMB Control Number for this information collection is 2120-0056. Public reporting for this collection of information is estimated to take approximately 2 hours per response, including the time for reviewing instructions, searching existing data sources, gathering and maintaining the data needed, and completing and reviewing the collection of information. All responses to this collection of information are mandatory. Send comments regarding this burden estimate or any other aspect of this collection of information, including suggestions for reducing this burden, to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Textron Aviation Inc. (Type Certificate previously held by Cessna Aircraft Company): Docket No. FAA-2020-1078; Project Identifier AD-2020-00716-A.

(a) Comments Due Date

The FAA must receive comments on this airworthiness directive (AD) by June 25, 2021.

(b) Affected ADs

None.

(c) Applicability

This AD applies to Textron Aviation Inc. (Type Certificate previously held by Cessna Aircraft Company) Models 210N, 210R, P210N, P210R, T210N, T210R, 177, 177A, 177B, 177RG, and F177RG airplanes, all serial numbers, certificated in any category.

(d) Subject

Joint Aircraft System Component (JASC) Code 5310, Fuselage Main, Structure.

(e) Unsafe Condition

This AD was prompted by the in-flight break-up of a Model T210M airplane, due to fatigue cracking of the carry-thru spar that initiated at a corrosion pit and subsequent corrosion reports on other Model 210-series and Model 177-series airplanes. The FAA is issuing this AD to detect and correct cracks, corrosion, and other damage of the carry-thru spar lower cap, which, if not corrected, could lead to the carry-thru spar being unable to support the required structural loads and could result in separation of the wing and loss of airplane control.

(f) Compliance

Comply with this AD within the compliance times specified, unless already done.

(g) Visual Inspection

Within 200 hours time-in-service (TIS) after the effective date of this AD or within 12 months after the effective date of this AD, whichever occurs first, prepare the carry-thru spar lower cap for inspection by following steps 4 and 5 of the Accomplishment Instructions in Textron Aviation Mandatory Single Engine Service Letter, SEL-57-08, Revision 2, dated August, 3, 2020 (SEL-57-08R2) or Textron Aviation Mandatory Single Engine Service Letter, SEL-57-09, Revision 1, dated August, 3, 2020 (SEL-57-09R1), as applicable to your airplane model. Visually inspect the carry-thru spar lower cap (including the lower surface, upper surface, and edge) with a 10X magnification lens looking for corrosion, cracks, and damage. You are not required to inspect the lower cap to web radius, spar web, upper cap, or lugs. Refer to the `Spar Dimensions' and the `Spar Detail' figures on page 7 of SEL-57-08R2 or SEL-57-09R1, as applicable to your airplane model, for the location of the specific spar features.

(1) If there is a crack, before further flight, remove the carry-thru spar from service.

(2) If there is damage or evidence of previous removal of corrosion (blending), before further flight, either remove the carry-thru spar from service or repair the area using a method approved as specified in paragraph (o) of this AD. Comply with the requirements in paragraph (h) of this AD before further flight.

(3) If there is any corrosion, before further flight, remove the corrosion in the affected area by following steps 6.B.(1) through (7) of the Accomplishment Instructions in SEL-57-08R2 or SEL-57-09R1, as applicable to your airplane model, and then mechanically measure the depth of the blended area using a straight edge and feeler gauge or a depth gauge micrometer.

(i) If the material removed in the blended area exceeds the allowable blend limits specified in table 1 (including the notes) of SEL-57-08R2 or SEL-57-09R1, as applicable to your airplane model, before further flight, either remove the carry-thru spar from service or repair the area using a method approved as specified in paragraph (o) of this AD. Comply with the requirements in paragraph (h) of this AD before further flight.

(ii) If the material removed in the blended area does not exceed the allowable blend limits specified in table 1 (including the notes) of SEL-57-08R2 or SEL-57-09R1, as applicable to your airplane model, comply with the requirements in paragraph (h) of this AD before further flight.

(4) If the visual inspection did not detect corrosion, cracks, or damage and there is no evidence of previous removal of corrosion, comply with the requirements in paragraph (h) of this AD before further flight.

(h) Eddy Current Inspection

(1) Complete an eddy current inspection of the carry-thru spar lower cap for cracks, corrosion, and damage in the following areas in accordance with step 7 of the Accomplishment Instructions in SEL-57-08R2 or SEL-57-09R1, as applicable to your airplane model.

(i) The kick area as depicted in the `Spar Dimensions' figure on page 7 of SEL-57-08R2 or SEL-57-09R1, as applicable to your airplane. You must complete an eddy current inspection of the lower cap kick area of your airplane regardless of whether corrosion was found and removed as a result of the visual inspection in paragraph (g) of this AD.

(ii) All areas where corrosion was found and removed as a result of the inspection in paragraph (g) of this AD.

(2) If there is a crack, before further flight, remove the carry-thru spar from service.

(3) If there is any damage, before further flight, either remove the carry-thru spar from service or repair the area using a method approved as specified in paragraph (o) of this AD. After completing the repair, repeat the eddy current inspection of the repaired area before further flight.

(4) If there is any corrosion, before further flight, remove the corrosion by following the requirements in paragraph (g)(3) of this AD. You must repeat the eddy current inspection and comply with paragraph (h) of this AD for the area where the additional material was removed, but you do not have to repeat the eddy current inspection of the kick area.

(i) Corrosion Protection

Within 12 months after the effective date of this AD, apply protective coating and corrosion inhibiting compound (CIC) by following steps 9 and 10 of the Accomplishment Instructions in SEL-57-08R2 or SEL-57-09R1, as applicable to your airplane model.

(j) Installation Prohibition

As of the effective date of this AD, do not install on any airplane a carry-thru spar unless it has been inspected as required by paragraphs (g) and (h) of this AD and corrosion protection applied as required by paragraph (i) of this AD.

(k) Reporting Requirement

Within 30 days after completing the inspections required by this AD or within 30 days after the effective date of this AD, whichever occurs later, report to the FAA by email (Wichita-COS@faa.gov) all information requested in the Carry-Thru Spar Inspection Report Attachment to SEL-57-08R2 or SEL-57-09R1, as applicable to your airplane model.

(l) Credit for Previous Actions

(1) You may take credit for the visual inspection required by paragraph (g) of this AD if you performed the visual inspection before the effective date of this AD using Textron Aviation Mandatory Single Engine Service Letter SEL-57-08, dated November 1, 2019 (SEL-57-08); Textron Aviation Mandatory Single Engine Service Letter SEL-57-08, Revision 1, dated November 19, 2019 (SEL-57-08R1); Textron Aviation Mandatory Single Service Letter SEL-57-09, dated November 19, 2019 (SEL-57-09); Textron Aviation Mandatory Single Engine Service Letter SEL-57-06, dated June 24, 2019 (SEL-57-06); Textron Aviation Mandatory Single Engine Service Letter SEL-57-06, Revision 1, dated November 19, 2019 (SEL-57-06R1); Textron Aviation Mandatory Single Engine Service Letter, SEL-57-07, dated June 24, 2019 (SEL-57-07); or Textron Aviation Mandatory Single Engine Service Letter, SEL-57-07, Revision 1, dated November 19, 2019 (SEL-57-07R1).

(2) You may take credit for the eddy current inspection of the lower cap kick area and all locations where corrosion was removed on the carry-thru spar lower cap as specified in paragraph (h) of this AD if you performed the eddy current inspection before the effective date of this AD using SEL-57-08, SEL-57-08R1, SEL-57-06, SEL-57-06R1, SEL-57-07, SEL-57-07R1, or SEL-57-09.

(3) You may take credit for the corrosion protection required by paragraph (i) of this AD if you performed those actions before the effective date of this AD using SEL-57-08, SEL-57-08R1, or SEL-57-09.

(4) If you can take credit for the visual and eddy current inspections as specified in paragraphs (l)(1) and (2) of this AD but you did not apply protective coating and CIC to the spar, you must apply protective coating and CIC by following steps 9 and 10 of the Accomplishment Instructions in SEL-57-08R2 or SEL-57-09R1, as applicable to your airplane model, within 24 months after the date you completed the visual and eddy current inspections or within 12 months after the effective date of this AD, whichever occurs first.

(5) To take credit for any previous action, you must have provided a completed Carry-Thru Spar Inspection Report, an attachment to SEL-57-06, SEL-57-06 R1, SEL-57-07, SEL-57-07R1, SEL-57-08, SEL-57-08R1, or SEL-57-09 to Textron Aviation Inc. before the effective date of this AD, or you must comply with paragraph (k) of this AD within 30 days after the effective date of this AD.

(m) Special Flight Permit

Special flight permits are prohibited.

(n) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 2 hours per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(o) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information.

(2) Before using any approved AMOC, notify your appropriate principal inspector, or lacking a principal inspector, the manager of the local flight standards district office/certificate holding district office.

(3) An AMOC that provides an acceptable level of safety may be used for any repair, modification, or alteration required by this AD if it is approved by a Textron Aviation, Inc. Unit Member (UM) of the Textron Organization Designation Authorization (ODA), that has been authorized by the Manager, Wichita ACO Branch, to make those findings. To be approved, the repair, modification deviation, or alteration deviation must meet the certification basis of the airplane, and the approval must specifically refer to this AD.

(p) Related Information

(1) For more information about this AD, contact Bobbie Kroetch, Aviation Safety Engineer, Wichita ACO Branch, FAA, 1801 Airport Rd., Wichita, KS 67209; phone: (316) 946-4155; fax: (316) 946-4107; email: bobbie.kroetch@faa.gov or Wichita-COS@faa.gov.

(2) For service information identified in this AD, contact Textron Aviation Inc., One Cessna Boulevard, Wichita, KS 67215; phone: (316) 517-6061; email: structures@txtav.com; website: https://support.cessna.com. You may view this referenced service information at the FAA, Airworthiness Products Section, Operational Safety Branch, 901 Locust, Kansas City, MO 64106. For information on the availability of this material at the FAA, call (816) 329-4148.

Issued on April 16, 2021.
Lance T. Gant,
Director, Compliance & Airworthiness Division, Aircraft Certification Service.

[FR Doc. 2021-09871 Filed 5-10-21; 8:45 am]

BILLING CODE 4910-13-P